DEPARTMENT OF TRANSPORTATION

14 CFR Part 97

[Docket No. 30608; Amdt. No. 3269]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 14, 2008. The compliance date for each SIAP, associated Takeoff Minimums, and ODP is specified in the amendatory provisions.

The incorporation by reference of certain publications listed in the regulations is approved by the Director of the Federal Register as of May 14, 2008.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For Information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under DOT Regulatory Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on May 2, 2008.
James J. Ballough,
Director, Flight Standards Service.

Adoption of the Amendment

Accordingly, pursuant to the authority delegated to me, Title 14, Code of Federal Regulations, part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * * Effective Upon Publication

FDC date | State | City | Airport | FDC No. | Subject
04/03/08 | MO | Hannibal | Hannibal Regional | 8/0995 | VOR or GPS A, Amdt 3. This NOTAM Published in TL-08-11 is Hereby Rescinded in its Entirety.
04/10/08 | NY | Schenectady | Schenectady County | 8/1927 | GPS Rwy 22, Orig-B.
04/15/08 | MS | Oxford | University-Oxford | 8/3151 | VOR/DME-A, Amdt 4A. This NOTAM Published in TL08-11 is Hereby Rescinded in its Entirety.
04/15/08 | MI | Detroit | Willow Run | 8/3298 | RNAV (GPS) Rwy 9R, Orig. This NOTAM Published in TL08-11 is Hereby Rescinded in its Entirety.
04/17/08 | OK | Lawton | Lawton-Ft Sill Regional | 8/3571 | ILS or LOC Rwy 35, Amdt 7D.
04/22/08 | NY | Farmingdale | Republic | 8/3573 | Takeoff Minimums and (Obstacle) DP, Amdt 5.
04/17/08 | ID | Boise | Boise Air Terminal/Gowen Fld | 8/3632 | VOR/DME or TACAN Rwy 10L, Amdt 1A.
04/17/08 | ID | Boise | Boise Air Terminal/Gowen Fld | 8/3633 | VOR/DME or TACAN Rwy 28L, Amdt 1B.
04/17/08 | CO | Durango | Durango-La Plata County | 8/3651 | GPS Rwy 2, Orig.
04/17/08 | IA | Clinton | Clinton Muni | 8/3743 | GPS Rwy 32, Amdt 1A.
04/17/08 | AL | Dothan | Dothan Regional | 8/3752 | RNAV (GPS) Rwy 18, Orig-A.
04/17/08 | CO | Montrose | Montrose Regional | 8/3769 | GPS Rwy 35, Orig-A.
04/17/08 | CO | Montrose | Montrose Regional | 8/3771 | VOR/DME Rwy 13, Amdt 8C.
04/17/08 | CO | Montrose | Montrose Regional | 8/3772 | GPS Rwy 17, Orig.
04/17/08 | SC | Summerville | Summerville | 8/3782 | NDB or GPS Rwy 6, Orig-B.
04/17/08 | SC | Summerville | Summerville | 8/3783 | Takeoff Minimums and (Obstacle) DP, Orig.
04/18/08 | PA | York | York | 8/3821 | NDB Rwy 17, Amdt 6.
04/18/08 | NY | Rochester | Greater Rochester Intl | 8/3826 | RNAV (GPS) Rwy 4, Orig.
04/18/08 | NJ | Manville | Central Jersey Rgnl | 8/3828 | RNAV (GPS) Rwy 25, Orig.
04/18/08 | NH | Manchester | Manchester | 8/3832 | VOR/DME or GPS Rwy 17, Orig-B.
04/18/08 | NC | Erwin | Harnett Rgnl Jetport | 8/3833 | NDB Rwy 23, Amdt 2.
04/18/08 | FL | Tampa | Tampa Intl | 8/3834 | ILS Rwy 36L (CAT II), ILS Rwy 36L (CAT III), Amdt 15.
04/18/08 | MS | Oxford | University-Oxford | 8/3838 | LOC Rwy 9, Amdt 2A.
04/18/08 | VA | Chase City | Chase City Muni | 8/3845 | RNAV (GPS) Rwy 36, Orig.
04/18/08 | IN | Anderson | Anderson Muni-Darlington Field | 8/3900 | VOR or GPS-A, Amdt 8B.
04/18/08 | OK | Enid | Enid Woodring Regional | 8/3901 | VOR Rwy 17, Amdt 12B.
04/18/08 | OK | Enid | Enid Woodring Regional | 8/3902 | VOR Rwy 35, Amdt 13A.
04/18/08 | OK | Enid | Enid Woodring Regional | 8/3903 | ILS Rwy 35, Amdt 4A.
04/18/08 | OK | Enid | Enid Woodring Regional | 8/3904 | GPS Rwy 35, Orig-A.
04/18/08 | OH | Zanesville | Zanesville Muni | 8/3914 | VOR or GPS Rwy 22, Amdt 3A.
04/18/08 | OH | Zanesville | Zanesville Muni | 8/3915 | VOR or GPS Rwy 4, Amdt 6A.
04/18/08 | OH | Sandusky | Griffing-Sandusky | 8/3916 | VOR Rwy 27, Amdt 7.
04/18/08 | OH | Sandusky | Griffing-Sandusky | 8/3917 | VOR/DME or GPS Rwy 27, Amdt 2.
04/18/08 | OH | Piqua | Piqua Airport-Hartzell Field | 8/3918 | VOR Rwy 26, Amdt 6.
04/18/08 | OH | Piqua | Piqua Airport-Hartzell Field | 8/3919 | RNAV (GPS) Rwy 8, Orig.
04/18/08 | OH | Piqua | Piqua Airport-Hartzell Field | 8/3920 | RNAV (GPS) Rwy 26, Orig.
04/18/08 | OH | Sidney | Sidney Muni | 8/3921 | VOR/DME RNAV or GPS Rwy 28, Amdt 5A.
04/18/08 | OH | Sidney | Sidney Muni | 8/3922 | VOR or GPS Rwy 23, Amdt 12A.
04/18/08 | OH | Youngstown | Youngstown Elser Metro | 8/3967 | Takeoff Minimums and (Obstacle) DP, Orig.
04/18/08 | OH | Youngstown | Youngstown Elser Metro | 8/3968 | GPS Rwy 28, Orig-A.
04/21/08 | AR | Clinton | Holley Mountain Airpark | 8/4118 | RNAV (GPS) Rwy 5, Amdt 1.
04/21/08 | TX | San Antonio | San Antonio Intl | 8/4121 | RNAV (GPS) Rwy 12R, Orig-A.
04/21/08 | TX | San Antonio | San Antonio Intl | 8/4122 | RNAV (GPS) Rwy 21, Amdt 1.
04/21/08 | TX | San Antonio | San Antonio Intl | 8/4141 | ILS Rwy 12R Amdt 13A...ILS Rwy 12R (CAT II) Amdt 13A.
04/21/08 | SD | Mitchell | Mitchell Muni | 8/4147 | ILS Rwy 30, Orig.
04/21/08 | SD | Vermillion | Harold Davidson Field | 8/4148 | NDB or GPS Rwy 30, Amdt 1.
04/21/08 | PA | York | York | 8/4170 | GPS Rwy 35, Amdt 2.
04/21/08 | IA | Keokuk | Keokuk Muni | 8/4186 | RNAV (GPS) Rwy 32, Orig.
04/21/08 | IA | Iowa Falls | Iowa Falls Muni | 8/4192 | NDB or GPS Rwy 31, Amdt 4.
04/21/08 | IA | Ames | Ames Muni | 8/4226 | ILS Rwy 1, Amdt 1.
04/21/08 | IA | Ames | Ames Muni | 8/4227 | RNAV (GPS) Rwy 1, Amdt 1.
04/21/08 | IA | Ames | Ames Muni | 8/4228 | RNAV (GPS) Rwy 31, Orig.
04/21/08 | IA | Ames | Ames Muni | 8/4229 | RNAV (GPS) Rwy 19, Orig.
04/21/08 | IA | Ames | Ames Muni | 8/4230 | RNAV (GPS) Rwy 13, Orig.
04/21/08 | CA | Oakland | Metropolitan Oakland Intl | 8/4239 | RNAV (GPS) Rwy 11, Orig-A.
04/22/08 | MA | Boston | Gen Edward Lawrence Logan Intl | 8/4281 | VOR/DME Rwy 15R, Amdt 2.
04/22/08 | MA | Boston | Gen Edward Lawrence Logan Intl | 8/4282 | VOR/DME Rwy 33L, Amdt 2B.
04/22/08 | GA | Lagrange | Lagrange-Callaway | 8/4292 | ILS Rwy 31, Amdt 1A.
04/22/08 | AK | Teller | Teller | 8/4366 | RNAV (GPS) Rwy 25, Orig.
04/22/08 | AK | Teller | Teller | 8/4370 | RNAV (GPS) Rwy 7, Orig.
04/22/08 | TX | Austin | Austin-Bergstrom Intl | 8/4422 | ILS or LOC Rwy 35L, Amdt 4.
04/22/08 | TX | Livingston | Livingston Muni | 8/4443 | RNAV (GPS) Rwy 30, Orig.
04/22/08 | TX | Houston | Lone Star Executive | 8/4444 | NDB Rwy 14, Amdt 2.
04/22/08 | TX | Houston | Lone Star Executive | 8/4448 | ILS Rwy 14, Amdt 2.
04/22/08 | TX | Houston | Lone Star Executive | 8/4449 | RNAV (GPS) Rwy 32, Orig-A.
04/23/08 | KS | Pittsburg | Atkinson Muni | 8/4587 | RNAV (GPS) Rwy 4, Orig-A.
04/23/08 | KS | Pittsburg | Atkinson Muni | 8/4588 | RNAV (GPS) Rwy 22, Orig-A.
04/23/08 | KS | Pittsburg | Atkinson Muni | 8/4589 | VOR/DME Rwy 4, Amdt 3A.
04/24/08 | PA | Ebensburg | Ebensburg | 8/4717 | VOR or GPS-A, Amdt 6A.
04/24/08 | NH | Manchester | Manchester | 8/4719 | ILS or LOC Rwy 6, Amdt 1A.
04/24/08 | CA | Palmdale | Palmdale Regional/USAF Plant 42 | 8/4725 | RNAV (GPS) Rwy 25, Orig-A.
04/24/08 | CA | Stockton | Stockton Metropolitan | 8/4726 | NDB Rwy 29R, Amdt 14D.
04/24/08 | CA | Stockton | Stockton Metropolitan | 8/4727 | VOR Rwy 29R, Amdt 18A.
04/24/08 | CA | Stockton | Stockton Metropolitan | 8/4728 | GPS Rwy 29R, Orig-B.
04/24/08 | TX | Abilene | Abilene Regional | 8/4813 | LOC BC Rwy 17L, Amdt 3C.
04/24/08 | ND | Jamestown | Jamestown Regional | 8/4814 | ILS or LOC Rwy 31, Amdt 7D.
04/24/08 | AR | North Little Rock | North Little Rock Muni | 8/4822 | LOC/DME Rwy 5, Orig.
04/24/08 | NE | Plattsmouth | Plattsmouth Muni | 8/4823 | NDB Rwy 16, Orig.
04/24/08 | RI | Pawtucket | North Central State | 8/4856 | LOC Rwy 5, Amdt 5D.
04/24/08 | RI | Pawtucket | North Central State | 8/4857 | VOR or GPS-A, Amdt 6A.
04/24/08 | RI | Pawtucket | North Central State | 8/4858 | GPS Rwy 5, Orig.
04/24/08 | RI | Pawtucket | North Central State | 8/4860 | GPS Rwy 23, Orig-A.
04/24/08 | RI | Pawtucket | North Central State | 8/4861 | VOR or GPS-B, Amdt 6A.
04/24/08 | OH | Cincinnati | Cincinnati Muni Airport-Lunken Field | 8/4862 | LOC BC Rwy 3R, Amdt 8B.
04/24/08 | OH | Marion | Marion Muni | 8/4863 | LOC/DME Rwy 25, Orig-A.
04/25/08 | AR | Osceola | Osceola Muni | 8/4919 | NDB or GPS Rwy 19, Orig-A.
04/25/08 | LA | New Orleans | Louis Armstrong New Orleans Intl | 8/4936 | ILS Rwy 1, Amdt 16C.
04/25/08 | LA | New Orleans | Louis Armstrong New Orleans Intl | 8/4937 | RADAR-1, Amdt 17.
04/25/08 | LA | New Orleans | Louis Armstrong New Orleans Intl | 8/4938 | ILS Rwy 10 (CAT II) Amdt 2A, ILS Rwy 10 (CAT III) Amdt 2A, ILS Rwy 10 (CAT I) Amdt 2A.
04/25/08 | OH | Willoughby | Willoughby Lost Nation Muni | 8/4945 | VOR-B, Orig-A.
04/25/08 | OH | Willoughby | Willoughby Lost Nation Muni | 8/4946 | VOR Rwy 28, Orig-B.
04/25/08 | OH | Willoughby | Willoughby Lost Nation Muni | 8/4947 | VOR-A, Orig-A.
04/25/08 | LA | Baton Rouge | Baton Rouge Metro, Ryan Field | 8/4962 | RNAV (GPS) Rwy 13, Orig.
04/25/08 | LA | Baton Rouge | Baton Rouge Metro, Ryan Field | 8/4964 | RNAV (GPS) Rwy 4L, Amdt 1.
04/25/08 | LA | Baton Rouge | Baton Rouge Metro, Ryan Field | 8/4965 | NDB Rwy 31, Amdt 2A.
04/25/08 | LA | Baton Rouge | Baton Rouge Metro, Ryan Field | 8/4967 | VOR Rwy 4L, Amdt 17.
04/25/08 | LA | Baton Rouge | Baton Rouge Metro, Ryan Field | 8/4969 | RNAV (GPS) Rwy 22R, Amdt 1.
04/25/08 | LA | Baton Rouge | Baton Rouge Metro, Ryan Field | 8/4970 | RNAV (GPS) Rwy 31, Amdt 1A.
04/25/08 | LA | Baton Rouge | Baton Rouge Metro, Ryan Field | 8/4973 | VOR/DME Rwy 22R, Amdt 8E.
04/25/08 | LA | Baton Rouge | Baton Rouge Metro, Ryan Field | 8/4974 | RADAR-1, Amdt 10B.
04/25/08 | LA | Baton Rouge | Baton Rouge Metro, Ryan Field | 8/4975 | ILS or LOC Rwy 13, Amdt 27B.
04/25/08 | KS | Wichita | Wichita Mid-Continent | 8/5001 | ILS or LOC Rwy 1R, Amdt 17A.
04/28/08 | IN | Goshen | Goshen Muni | 8/5173 | VOR Rwy 9, Amdt 12.
04/28/08 | MO | Mosby | Midwest National Air Center | 8/5175 | ILS or LOC/DME Rwy 18, Orig.
04/28/08 | MO | Grain Valley | East Kansas City | 8/5176 | VOR or GPS Rwy 23, Amdt 3.
04/28/08 | MO | Lee's Summit | Lee's Summit Muni | 8/5177 | VOR/DME A, Orig.
04/28/08 | MO | Hannibal | Hannibal Regional | 8/5182 | VOR/DME or GPS A, Amdt 3.
04/28/08 | MT | Miles City | Frank Wiley Field | 8/5183 | NDB Rwy 4, Amdt 5.
04/28/08 | MT | Miles City | Frank Wiley Field | 8/5184 | RNAV (GPS) Rwy 4, Amdt 1.
04/28/08 | WI | Green Bay | Austin Straubel International | 8/5185 | RNAV (GPS) Rwy 24, Orig.
04/28/08 | WI | Green Bay | Austin Straubel International | 8/5186 | VOR A, Orig.
04/28/08 | WI | Green Bay | Austin Straubel International | 8/5187 | LOC BC Rwy 24, Amdt 18.
04/28/08 | WI | Green Bay | Austin Straubel International | 8/5188 | RNAV (GPS) Rwy 6, Amdt 1.
04/28/08 | MT | Miles City | Frank Wiley Field | 8/5189 | VOR Rwy 4, Amdt 11.
04/28/08 | MT | Miles City | Frank Wiley Field | 8/5190 | VOR/DME or GPS Rwy 22, Amdt 8.
04/28/08 | IL | Chicago | Chicago-O' Hare Intl | 8/5191 | ILS or LOC Rwy 4R, Amdt 6H.
04/28/08 | NE | Oshkosh | Garden County | 8/5192 | NDB Rwy 12, Amdt 1.
04/28/08 | IL | Chicago | Chicago-O' Hare Intl | 8/5193 | ILS or LOC Rwy 22R, Amdt 7D.
04/28/08 | MN | Granite Falls | Granite Falls Muni/Lenzen-Roe Meml Fld | 8/5195 | GPS Rwy 33, Orig-A.
04/28/08 | MN | Granite Falls | Granite Falls Muni/Lenzen-Roe Meml Fld | 8/5196 | VOR/DME Rwy 33, Orig-A.
04/28/08 | MN | Benson | Benson Muni | 8/5198 | NDB Rwy 14, Amdt 7.
04/28/08 | MN | Morris | Morris Muni-Charlie Schmidt Fld | 8/5199 | VOR or GPS Rwy 14, Orig-A.
04/28/08 | OH | Waverly | Pike County | 8/5208 | NDB Rwy 25, Amdt 1.
04/28/08 | OH | Waverly | Pike County | 8/5209 | GPS Rwy 7, Orig-A.
04/28/08 | MN | Minneapolis | Anoka County-Blaine Arpt (Janes Field) | 8/5214 | ILS or LOC/DME Rwy 27, Orig.
04/28/08 | MN | Minneapolis | Anoka County-Blaine Arpt (Janes Field) | 8/5215 | RNAV (GPS) Rwy 27, Orig.
04/28/08 | MI | Davison | Athelone Williams Memorial | 8/5220 | VOR Rwy 8, Orig-A.
04/28/08 | MI | Linden | Prices | 8/5221 | VOR A, Orig.
04/28/08 | TX | Beaumont | Beaumont Muni | 8/5229 | RNAV (GPS) Rwy 13, Orig-A.
04/28/08 | TX | Beaumont | Beaumont Muni | 8/5230 | RNAV (GPS) Rwy 31, Orig-A.
04/28/08 | CO | Aspen | Aspen-Pitkin Co/Sardy Field | 8/5248 | VOR/DME or GPS C, Amdt 4E.
04/28/08 | AK | Nulato | Nulato | 8/5252 | RNAV (GPS) Rwy 2, Orig.
04/28/08 | AK | Nulato | Nulato | 8/5253 | RNAV (GPS) Rwy 20, Orig.
04/28/08 | AZ | Winslow | Winslow-Lindbergh Regional | 8/5255 | VOR or GPS Rwy 11, Amdt 4A.
04/28/08 | MT | Livingston | Mission Field | 8/5267 | GPS Rwy 22, Orig-A.
04/29/08 | RI | Providence | Theodore Francis Green State | 8/5347 | RNAV (GPS) Rwy 23, Orig-B.
04/29/08 | GA | Jesup | Jesup-Wayne County | 8/5351 | NDB or GPS Rwy 29, Amdt 2B.
04/29/08 | GA | Jesup | Jesup-Wayne County | 8/5352 | NDB or GPS Rwy 11, Amdt 1B.
04/30/08 | MO | Springfield | Springfield-Branson National | 8/5454 | VOR/DME or TACAN Rwy 2, Orig-A.
04/30/08 | MO | Springfield | Springfield-Branson National | 8/5455 | VOR or TACAN Rwy 20, Amdt 18B.
04/30/08 | MO | Springfield | Springfield-Branson National | 8/5456 | ILS Rwy 14, Orig.
04/30/08 | MO | Springfield | Springfield-Branson National | 8/5457 | RNAV (GPS) Rwy 32, Amdt 1.
04/30/08 | MO | Springfield | Springfield-Branson National | 8/5458 | RNAV (GPS) Rwy 14, Amdt 1.
04/30/08 | AR | Fayetteville | Drake Field | 8/5466 | VOR or GPS A, Amdt 24B.
04/30/08 | AR | Fayetteville | Drake Field | 8/5467 | VOR/DME B, Orig-A.
04/30/08 | AL | Dothan | Dothan Regional | 8/5490 | ILS or LOC Rwy 32, Amdt 8.
04/30/08 | FL | Tampa | Peter O Knight | 8/5639 | Take-Off Minimums and (Obstacle) DP, Amdt 4.
04/30/08 | IN | Brazil | Brazil Clay County | 8/5740 | VOR or GPS Rwy 9, Amdt 7.

[FR Doc. E8-10603 Filed 5-13-08; 8:45 am]

BILLING CODE 4910-13-P